DEPARTMENT OF THE INTERIOR

Bureau of Indian Affairs

[212D0102DR/DS5A300000/DR.5A311.IA000118]

Native American Business Development Institute (NABDI) Grant; Solicitation of Proposals

AGENCY: Bureau of Indian Affairs, Interior.

ACTION: Notice.

SUMMARY: The Office of Indian Energy and Economic Development (IEED), through its Native American Business Development Institute (NABDI) grant, is soliciting proposals from Tribes for technical assistance funding to hire consultants to perform feasibility studies of economic development opportunities. In addition to the feasibility study, NABDI grants may fund business plans for proposed businesses or Tribal businesses recovering from the economic impacts of the COVID-19 pandemic.

DATES: Grant application packages must be submitted to the Grants.gov no later than 5 p.m. Alaska Daylight Time July 2, 2021. IEED will not consider proposals received after this time and date.

ADDRESSES: The required method of submitting proposals is through Grants.gov. For information on how to apply for grants in Grants.gov, see the instructions available at https://www.grants.gov/help/html/help/Applicants/HowToApplyForGrants.htm. Proposals must be submitted to Grants.gov by the deadline established in the DATES section.

FOR FURTHER INFORMATION CONTACT: Mr. James R. West, Native American Business Development Institute (NABDI) Manager, Office of Indian Energy and Economic Development, Room 6049-B, 12220 Sunrise Valley Drive, Reston, Virginia 20191; telephone: (202) 595-4766; email: jamesr.west@bia.gov. Additional Program information can be found at https://www.bia.gov/service/grants/ntbg.

SUPPLEMENTARY INFORMATION:

I. General Information

II. Number of Projects Funded

III. Background

IV. Eligibility for Funding

V. Who may perform feasibility studies funded by NABDI grants?

VI. Applicant Procurement Procedures

VII. Limitations

VIII. NABDI Application Guidance

IX. Mandatory Components

X. Incomplete Applications

XI. Review and Selection Process

XII. Evaluation Criteria

XIII. Transfer of Funds

XIV. Reporting Requirements for Award Recipients

XV. Conflicts of Interest

XVI. Questions and Requests for IEED Assistance

XVII. Paperwork Reduction Act

XVIII. Authority

I. General Information

Award Ceiling: $75,000.

Award Floor: $25,000.

CFDA Number: 15.133.

Cost Sharing or Matching Requirement: No.

Number of Awards: 20-35.

Category: Business Development.

II. Number of Projects Funded

IEED anticipates award of approximately twenty (20) to thirty-five (35) grants under this announcement ranging in value from approximately $25,000 to $75,000. The program can fund projects only one year at a time. IEED will use a competitive evaluation process based on criteria described in the Review and Selection Process section at section X of this notice.

III. Background

The Office of the Assistant Secretary—Indian Affairs, through IEED, is soliciting proposals from Indian Tribes, as defined at 25 U.S.C. 5304(e), for grant funding to retain consultants to perform feasibility studies of economic development opportunities. Consultants may include universities and colleges, private consulting firms, non-academic/non-profit entities, or others. The feasibility studies will help facilitate informed decision-making regarding Tribes' economic futures. Feasibility studies may concern the viability of an economic development project or business, or the practicality of a technology, that a Tribe may choose to pursue. Feasibility studies may also explore how a current Tribal business or enterprise could recover and adapt to the challenges resulting from the COVID-19 pandemic. In addition to the feasibility study, NABDI grants may fund business plans for proposed businesses or recovering Tribal businesses.

The IEED administers this program through its Division of Economic Development (DED).

These grants will be funded under a non-recurring appropriation of the Bureau of Indian Affairs (BIA) budget. Congress appropriates funds on a year-to-year basis. Thus, while some projects may extend over several years, funding for successive years depends on each fiscal year's appropriations.

The funding periods and amounts referenced in this solicitation are subject to the availability of funds at the time of award, as well as the Department of the Interior (DOI) and Indian Affairs priorities at the time of the award. Neither DOI nor Indian Affairs will be held responsible for proposal or application preparation costs. Publication of this solicitation does not obligate DOI or Indian Affairs to award any specific grant or to obligate all or any part of available funds. Future funding is subject to the availability of appropriations and cannot be guaranteed. DOI or Indian Affairs may cancel or withdraw this solicitation at any time.

IV. Eligibility for Funding

Federally recognized tribes are eligible as listed in the current Federal Register notice of Indian Entities Recognized and Eligible to Receive Services from the United States Bureau of Indian Affairs, which is the official listing of all federally recognized tribes in the U.S. pursuant to Section 104 under the Federally Recognized Indian Tribe List Act of 1994 (Pub. L. 103-454; 108 Stat. 4791-4792). The current notice was published in the Federal Register at 86 FR 7554 (January 29, 2021).

V. Who may perform feasibility studies or develop business plans funded by NABDI grants?

The applicant determines who will conduct its feasibility study or business plan. An applicant has several choices, including but not limited to:

• Universities and colleges;

• Private consulting firms; or

• Non-academic, non-profit entities.

VI. Applicant Procurement Procedures

The applicant is subject to the procurement standards in 2 CFR 200.318 through 200.326. In accordance with 2 CFR 200.318, an applicant must use its own documented procurement procedures which reflect Tribal laws and regulations, provided that the procurements conform to applicable Federal law and standards identified in title 2 of the Code of Federal Regulations.

VII. Limitations

NABDI grant funding must be expended in accordance with applicable statutory and regulatory requirements, including 2 CFR part 200. As part of the grant application review process, IEED may conduct a review of an applicant's prior IEED grant awards(s).

Applicants that are currently under BIA sanction Level 2 or higher resulting from non-compliance with the Single Audit Act are ineligible for a NABDI award. Applicants at Sanction Level 1 will be considered for funding.

An applicant may submit more than one grant application. For example, an applicant may submit an application to study the practicality of developing a Tribal business and a separate application to assess whether that business would be competitive in the global marketplace. However, applications should address one project and any submissions that contain multiple project proposals will not be considered. IEED will apply the same objective ranking criteria to each proposal.

The purpose of NABDI grants is to fund feasibility studies and business plans for proposed economic development projects, businesses, technologies and for businesses recovering from the effects of the COVID-19 pandemic. An application can request funding for a feasibility study and a business plan. Generally, feasibility studies cost up to $50,000 and business plans between $5,000-$20,000.

NABDI awards may not be used for:

• Establishing or operating a Tribal office;

• Indirect costs or administrative costs as defined by the Federal Acquisition Regulation (FAR);

• Purchase of equipment that is used to develop the feasibility studies, such as computers, vehicles, field gear, etc. (however, leasing of this type of equipment for the purpose of developing feasibility studies is allowed);

• Creating Tribal jobs to complete the project. An NABDI grant is not intended to create temporary administrative jobs or supplement employment for Tribal members;

• Legal fees;

• Application fees associated with permitting;

• Training;

• Contract negotiation fees;

• Feasibility studies of energy, mineral, energy legal infrastructure, or broadband related projects, businesses, or technologies that are addressed by IEED's Energy and Mineral Development Program (EMDP), Tribal Energy Development Capacity (TEDC); and

• Any other activities not authorized by the grant award letter.

VIII. NABDI Application Guidance

Submission of entire application in digital form to grants.gov is required. For instructions, see https://www.grants.gov/help/html/help/Applicants/HowToApplyForGrants.htm. In very limited circumstances, IEED may accept a non-digital application. Please contact IEED at least a week prior to the submission deadline for approval.

IX. Mandatory Components

There are four mandatory components that must be included in each proposal package: Application for Federal Assistance SF-424, Project Narrative, Budget, and Critical Information Page.

Application for Federal Assistance SF-424 (Mandatory Component 1)

It is required that the applicant complete the Application for Federal Assistance SF-424. Please use a descriptive file name that includes tribal name and project description. For example: NABDISF424.Tribalname.Project.

Project Narrative (Mandatory Component 2)

The first paragraph of the project narrative must include the title and basic description of the proposed feasibility study and/or business plan. The Project Narrative must not exceed 15 pages. At a minimum, it should include:

• A technical description of the project and, if applicable, an explanation of how the proposed new study and/or business plan would benefit the applicant and does not duplicate previous work;

• A description of the project objectives and goals;

• Deliverable products that the consultant is expected to generate, including interim deliverables (such as status reports and technical data to be obtained) and final deliverables (the feasibility study); and

• Resumes of key consultants and personnel to be retained, if available, and the names of subcontractors, if applicable. This information may be included as an attachment to the application and will not be counted towards the 15-page limitation.

• Please use a descriptive file name that includes tribal name and project description. For example: NABDINarrative.Tribalname.Project.

In addition, unless prohibited by tribal procurement procedures, please include a description of the consultant(s) the applicant wishes to retain, including the consultant's contact information, technical expertise, training, qualifications, and suitability to undertake the feasibility study. These documents may be included at the end of the Project Narrative and will not be counted toward the 15-page limitation.

Project Narratives are not judged based on their length. Please do not submit any attachments or documents beyond what is listed above, e.g., Tribal history, unrelated photos and maps.

Budget (Mandatory Component 3)

It is required that the budget be submitted using the SF-424A form. Please use a descriptive file name that includes tribal name and project description. For example: NABDIBudget.Tribalname.Project.

The budget must identify the amount of grant funding requested and a comprehensive breakdown of all projected and anticipated expenditures, including contracted personnel fees, consulting fees (hourly or fixed), travel costs, data collection and analysis costs, computer rentals, report generation, drafting, advertising costs for a proposed project and other relevant project expenses, and their subcomponents.

• Travel costs should be itemized by airfare, vehicle rental, lodging, and per diem, based on the current Federal government per diem schedule.

• Data collection and analysis costs should be itemized in sufficient detail for the IEED review committee to evaluate the charges.

• Other expenses may include computer rental, report generation, drafting, and advertising costs for a proposed project.

Critical Information Page (Mandatory Component 4)

Applicants must include a critical information page that includes:

• Project Manager's contact information including address, email, desk, and cell phone number;

• DUNS number;

• Active SAM number (please ensure that the SAM number is not expired);

• An active Automated Standard Application for Payment (ASAP) number;

• Counties where the project is located; and

• Congressional District number where the project is located.

• Please use a descriptive file name that includes tribal name and identifies that it is the critical information page (CIP). For example: NABDICIP.Tribalname.Project.

Tribal Resolution (Mandatory Component 5)

Applicants must include a Tribal resolution issued in the fiscal year of the grant application, authorizing the submission of a FY 2021 NABDI grant application. It must be signed by authorized Tribal representative(s). The Tribal resolution must also include a description of the feasibility study and/or business plan to be developed.

X. Incomplete Applications

Applications submitted without one or more of the five mandatory components described above will be returned to the applicant with an explanation. The applicant will then be allowed to correct any deficiencies and resubmit the proposal for consideration on or before the deadline. This option will not be available to an applicant once the deadline has passed.

XI. Review and Selection Process

Upon receiving a NABDI application, IEED will determine whether the application is complete and that the proposed project does not duplicate or overlap previous or currently funded IEED technical assistance projects. Any proposal that is received after the date and time in the DATES section of this notice will not be reviewed. If an application is not complete and the submission deadline has not passed, the applicant will be notified and given an opportunity to resubmit its application.

The IEED Review Committee, comprised of IEED staff, staff from other Federal agencies, and subject matter experts, will evaluate the proposals against the ranking criteria. Proposals will be evaluated using the four ranking criteria listed below, with a maximum achievable total of 100 points.

Final award selections will be approved by the Assistant Secretary—Indian Affairs and the Associate Deputy Secretary, U.S. Department of the Interior. Applicants not selected for award will be notified in writing.

XII. Evaluation Criteria

Proposals will be formally evaluated by an IEED review committee using the five criteria listed below. Each criterion provides a percentage of the total maximum rating of 100 points:

The Project's Economic Benefits: 50 points.

Project Deliverables: 20 points.

Feasibility Process and Analysis: 10 points.

Costs of Proposal: 10 points.

Specificity: 10 points.

The Project's Economic Benefits: 50 Points

The reviewers will determine if the proposal's scope of work clearly states the opportunity to be studied. Factors that the reviewers will consider when awarding points are, but not limited to:

• Does the proposal describe how the project will potentially stimulate economic development?

• Does the proposal describe the benefits that the project would have if implemented?

• Does the proposal include information on how the project will reduce joblessness and stimulate economic activity within a Native community?

• Does the proposal describe the economic development challenges and how the study will address those conditions?

• Does the proposal describe if the applicant has the financial resources to conduct the study absent NABDI grant assistance?

Project Deliverables: 20 Points

The reviewers will determine if the proposal describes in detail applicable proposed deliverables. For example, a hotel feasibility study would include deliverables such as, but not limited to, site analysis, market demographics, drive-time market, regional competition, market demands, and a financial model that includes investment and return on investment projections.

Project Tasks and Timeline: 10 Points

The reviewers will determine if a comprehensive timeline has been developed to address tasks that are needed to successfully complete the objectives outlined in the scope of work.

Costs of Proposal/Budget: 10 Points

The reviewers will assess the costs listed in the budget to determine if the overall value of the project is competitively priced and in accordance with the goals stated within the proposal/scope of work.

Specificity: 10 Points

The reviewers understand that applicants may retain consultant(s) that prepare the NABDI proposal to also conduct the feasibility study if the grant is awarded. This does not prejudice an applicant's chances of being selected as a grantee. However, the Committee will view unfavorably proposals that show little evidence of communication between the consultant(s) and the applicant or scant regard for the applicant community's unique circumstances. Facsimile applications prepared by the same consultant(s) and submitted by multiple applicants will receive scrutiny in this regard.

XIII. Transfer of Funds

IEED's obligation under this solicitation is contingent on receipt of congressionally appropriated funds. No liability on the part of the U.S. Government for any payment may arise until funds are made available to the awarding officer for this grant and until the recipient receives notice of such availability, to be confirmed in writing by the grant officer.

All payments under this agreement will be made by electronic funds transfer through the ASAP. All award recipients are required to have a current and accurate DUNS number to receive funds. All payments will be deposited to the banking information designated by the applicant in the System for Award Management (SAM).

XIV. Reporting Requirements for Award Recipients

The applicant must deliver all products and data required by the signed Grant Agreement for the proposed NABDI feasibility study and business plan project to IEED within 30 days of the end of each reporting period and 90 days after completion of the project. The reporting periods will be established in the terms and conditions of the final award.

IEED requires that deliverable products be provided in digital format. Reports can be provided in either Microsoft Word or Adobe Acrobat PDF format. Spreadsheet data can be provided in Microsoft Excel, Microsoft Access, or Adobe PDF formats. All vector figures should be converted to PDF format. Raster images can be provided in PDF, JPEG, TIFF, or any of the Windows metafile formats. The contract between the grantee and the consultant conducting the NABDI funded feasibility study must include deliverable products and require that the products be prepared in the format described above.

The contract should include budget amounts for all printed and digital copies to be delivered in accordance with the grant agreement. In addition, the contract must specify that all products generated by a consultant belong to the grantee and cannot be released to the public without the grantee's written approval. Products include, but are not limited to, all reports and technical data obtained, maps, status reports, and the final report.

In addition, this funding opportunity and financial assistance award must adhere to the following provisions.

XV. Conflicts of Interest

Applicability

• This section intends to ensure that non-Federal entities and their employees take appropriate steps to avoid conflicts of interest in their responsibilities under or with respect to Federal financial assistance agreements.

• In the procurement of supplies, equipment, construction, and services by recipients and by sub-recipients, the conflict of interest provisions in 2 CFR 200.318 apply.

Requirements

• Non-Federal entities must avoid prohibited conflicts of interest, including any significant financial interests that could cause a reasonable person to question the recipient's ability to provide impartial, technically sound, and objective performance under or with respect to a Federal financial assistance agreement.

• In addition to any other prohibitions that may apply with respect to conflicts of interest, no key official of an actual or proposed recipient or sub-recipient, who is substantially involved in the proposal or project, may have been a former Federal employee who, within the last one (1) year, participated personally and substantially in the evaluation, award, or administration of an award with respect to that recipient or sub-recipient or in development of the requirement leading to the funding announcement.

• No actual or prospective recipient or sub-recipient may solicit, obtain, or use non-public information regarding the evaluation, award, administration of an award to that recipient or sub-recipient or the development of a Federal financial assistance opportunity that may be of competitive interest to that recipient or sub-recipient.

Notification

• Non-Federal entities, including applicants for financial assistance awards, must disclose in writing any conflict of interest to the DOI awarding agency or pass-through entity in accordance with 2 CFR 200.112, Conflicts of Interest.

• Recipients must establish internal controls that include, at a minimum, procedures to identify, disclose, and mitigate or eliminate identified conflicts of interest. The recipient is responsible for notifying the Financial Assistance Officer in writing of any conflicts of interest that may arise during the life of the award, including those that have been reported by sub-recipients.

• Restrictions on Lobbying. Non-Federal entities are strictly prohibited from using funds under this grant or cooperative agreement for lobbying activities and must provide the required certifications and disclosures pursuant to 43 CFR part 18 and 31 U.S.C. 1352.

• Review Procedures. The Financial Assistance Officer will examine each conflict of interest disclosure on the basis of its particular facts and the nature of the proposed grant or cooperative agreement, and will determine whether a significant potential conflict exists and, if it does, develop an appropriate means for resolving it.

• Enforcement. Failure to resolve conflicts of interest in a manner that satisfies the Government may be cause for termination of the award. Failure to make the required disclosures may result in any of the remedies described in 2 CFR 200.338, Remedies for Noncompliance, including suspension or debarment (see also 2 CFR part 180).

Data Availability

• Applicability. The Department of the Interior is committed to basing its decisions on the best available science and providing the American people with enough information to thoughtfully and substantively evaluate the data, methodology, and analysis used by the Department to inform its decisions.

• Use of Data. The regulations at 2 CFR 200.315 apply to data produced under a Federal award, including the provision that the Federal Government has the right to obtain, reproduce, publish, or otherwise use the data produced under a Federal award as well as authorize others to receive, reproduce, publish, or otherwise use such data for Federal purposes.

• Availability of Data. The recipient shall make the data produced under this award and any subaward(s) available to the Government for public release, consistent with applicable law, to allow meaningful third-party evaluation and reproduction of the following:

○ The scientific data relied upon;

○ The analysis relied upon; and

○ The methodology, including models, used to gather and analyze data.

XVI. Questions and Requests for IEED Assistance

IEED staff may provide technical consultation, upon written request by an applicant. The request must clearly identify the type of assistance sought. Technical consultation does not include funding to prepare a grant proposal, grant writing assistance, or pre-determinations as to the likelihood that a proposal will be awarded. The applicant is solely responsible for preparing its grant proposal. Technical consultation may include clarifying application requirements, confirming whether an applicant previously submitted the same or similar proposal, and registration information for SAM or ASAP.

XVII. Paperwork Reduction Act

The information collection requirements contained in this notice have been reviewed and approved by the Office of Management and Budget (OMB) under the Paperwork Reduction Act, 44 U.S.C. 3504(h). The OMB control number is 4040-0004. The authorization expires on 12/31/2022. An agency may not conduct or sponsor, and you are not required to respond to, any information collection that does not display a currently valid OMB Control Number.

XVIII. Authority

This is a discretionary grant program authorized under the Snyder Act (25 U.S.C. 13) and the Further Consolidated Appropriations Act 2020 (Pub. L. 116-94). The Snyder Act authorizes the BIA to expend such moneys as Congress may appropriate for the benefit, care, and assistance of Indians for the purposes listed in the Act. NABDI grants facilitate two of the purposes listed in the Snyder Act: “General support and civilization, including education” and “industrial assistance and advancement.” The Further Consolidated Appropriations Act 2020 authorizes the BIA to “carry out the operation of Indian programs by direct expenditure, contracts, cooperative agreements, compacts, and grants, either directly or in cooperation with States and other organizations.”

Bryan Newland,
Principal Deputy Assistant Secretary—Indian Affairs.

[FR Doc. 2021-10086 Filed 5-12-21; 8:45 am]

BILLING CODE 4337-10-P